DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of April and May, 2002.

In order for an affirmative determination to be made and a certification of eligibility to apply for worker adjustment assistance to be issued, each of the group eligibility requirements of section 222 of the Act must be met.

(1) That a significant number of proportion of the workers in the workers' firm, or an appropriate subdivision thereof, have become totally or partially separated,

(2) That sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,029; Jackson Precision Die Casting, Inc., Jackson, MI

TA-W-34,535; Phoenix Gold International, Inc., Portland, OR

TA-W-40,699; AA Precisioneering, Inc., Meadville, PA

TA-W-40,710; Alpha Carb Enterprises, Leechburg, PA

TA-W-40,865; Sonoco Products Co., Industrial Products Div., Lincolnton, NC

TA-W-40,885; O.P. Schuman and Sons, Inc., Warrington, PA

TA-W-40,928; Ramtex, Inc., Ramseur, NC

TA-W-40,985; Bi-Link Florida, Ltd, A Subsidiary of Bi-Link Metal Specialties, Deerfield, FL

TA-W-40,651; The Electron Corp., Blackwell, OK

TA-W-40,429 & A; Onkyo America, In., Columbus, IN and Troy, MI

TA-W-41,123; Aldrich Corp., Greenwood, SC

In the following cases, the investigation revealed that the criteria for eligibility have not been met for the reasons specified.

The workers firm does not produce an article as required for certification under Section 222 of the Trade Act of 1974.

TA-W-41,102; EA.Com, Inc., Charlottesville, VA

TA-W-41,256; The Isfel Co., Inc., New York, NY

TA-W-40,787; GE Capital Modular Space and Tip, Devon, PA

TA-W-39,564; Modine Aftermarket Holdings, Inc., A Div. Of Modine Manufacturing Co., Merced, CA

TA-W-40,741; Leavitt Communications, Inc., Lincolnshire, IL

TA-W-41,209; Federal Pipe and Steel Corp., Blythville, AR

Increased imports did not contribute importantly to worker separations at the firm.

TA-W-40,855 & A; Quebecor World Kingsport, Inc., Kingsport, TN and Kingsport Press Road, Church Hill, TN

TA-W-41,205; Sonoco Products, Inc., Massillon, OH

TA-W-39,025; Talon Automotive Group, Production Stampong, Div., New Baltimore, MI

TA-W-40,018; Trailmobile Trailer, LLC, Liberal, KS

TA-W-40,220; Eagle Knits of Stanfield, Inc., Norwood, NC

TA-W-40,749; Trinity Industries, Plant 200, Longview, TX

TA-W-40,990; Alcon Simmut Technology, Waltham, MA

TA-W-40,919; Sovereign Adhesives, Inc., Formerly Croda Adhesives, Ewing, NJ

TA-W-40,950; Opton, Inc., Newport News, CA

The investigation revealed that criteria (1) has not been met. A significant number or proportion of the workers did not become totally or partially separated from employment as required for certification.

TA-W-41,136; Keystone Powered Metal Co., St. Marys, PA

Affirmative Determinations for Worker Adjustment Assistance

The following certifications have been issued; the date following the company name and location of each determination references the impact date for all workers of such determination.

TA-W-41,283; SHE-America, Inc., Vancouver, WA: April 5, 2001.

TA-W-41,266; Beacon Blankets, Inc., Swannanoa Plant, Swannanoa, NC: April 30, 2002

TA-W-41,236; Kayby Mills of NC, Inc., Trimfit, Inc., Thomasville, NC: October 30, 2000.

TA-W-41,199; Shelby Manufacturing Co., Charleston, MS: February 27, 2001.

TA-W-40,978; Vision Metals, Inc., Michigan Specialty Tube, South Lyon, MI: January 21, 2001.

TA-W-41,155; International Steel Wool Corp., A Subsidiary of F.H. Bonn Co., Springfield, OH: March 25, 2001.

TA-W-41,081; Bacou Dalloz USA, Inc., Dalloz Safety, Reading, PA: February 20, 2001.

TA-W-40,663; Greenwood Mills, Inc., Liberty Manufacturing, Liberty, SC: December 18, 2000.

TA-W-40,696; National Mills, Inc., Dayton, TN: November 16, 2000.

TA-W-39,674; Pennsylvania Steel Technologies, Steelton, PA: July 29, 2001.

TA-W-40,825; Artex International, Inc., West Point, MS: October 16, 2000.

TA-W-40,862; Brother Industries (USA), Inc., Bartlette, TN: October 31, 2000.

TA-W-40,876; Springfield Precision Instruments, Inc., Wood-Ridge, NJ: October 25, 2000.

TA-W-40,910; Stein Steel Mill Services, Inc., Employed at LTV Steel, Inc., Cleveland, OH: December 28, 2000.

TA-W-40,946; KBA North America, Inc., York, PA: January 29, 2001.

TA-W-40,957; Magnolia Garment Corp., Tylertown, MS: January 21, 2001.

TA-W-40,197; Lucent Technologies, Bell Labs Innovations, OKC Works, Oklahoma City, OK: September 26, 2000.

TA-W-40,472; Romart, Inc., Scranton, PA: October 24, 2000.

TA-W-40,392; A.S. Haight and Company, Inc., Cartersville, GA: November 19, 2000.

TA-W-40,339; Cornwall Wood Products, Inc., South Paris, ME: October 31, 2000.

TA-W-40,278; Beverly Coats, Inc., Brooklyn, NY: October 2, 2000.

TA-W-40,511; Lea-Wayne Knitting Mills, Inc., Morristown, TN: November 9, 2000.

TA-W-39,183; The Challenge Machinery Co., Grand Haven, MI: April 17, 2000.

TA-W-41,069; Michigan Magnetics, Inc., Vermontville, MI: February 5, 2001.

TA-W-40,998; Kellwood Co., Summit, MS: January 7, 2001.

TA-W-40,827; Argus International, Inc., Medley, FL: January 7, 2001.

TA-W-40,501 & A; Motorola, Inc., Global Telecom Solutions Sector (GTSS), Formerly Network Solutions Sector (NSS), Schaumburg, IL and Motorola, Inc., Commercial, Government, Industrial Solutions Sector (CGISS), Schaumburg, IL: November 15, 2000.

TA-W-41,188 & A; Landau Uniform, New Albany, MS and Olive Branch, MS: February 18, 2001.

TA-W-41,168 & A: Duplex Novelty Corp., Bronx, NY and New York, NY: January 17, 2001.

TA-W-41,137; ASL-Dallas Plant, Pillowtex Corp., Dallas TX: February 11, 2001.

TA-W-41,074; Isolyser Co., Inc., Microtek Medical, Inc., TR Division, Waynesville, NC: February 4, 2001.

TA-W-41,240; Nortel Networks, Raleigh System House, Raleigh, NC: February 8, 2001.

TA-W-41,237; Garan Manufacturing, Philadelphia, MS: March 8, 2001.

TA-W-211 & A; Eagle-Picher Technologies, LLC, A Division of Eagle-Picher Industries, Grove, OK and Seneca, MO: March 8, 2001.

TA-W-41,192; Graham-Field Health Products, Inc., Bay Shore, NY: February 13, 2001.

TA-W-41,258 & A, B; Weyerhaeuser Co., Western Timberlands Div., Cascade Operations, Snoqualmie, WA, Enumclaw, WA and Rainier, WA: March 1, 2001.

TA-W-41,271 & A; Koppel Steel Corp., Koppel Plant Beaver Falls, PA and Ambridge Plant, Ambridge, PA: March 4, 2001.

TA-W-41,297; Rivoli Mills, Chattanooga, TN: March 8, 2001.

TA-W-41,309 & A; The Morgan Crucible Co., PLC, VAC Magnetics Corp., Ferrite Div., Elizabethtown, KY and Alnico Div., Elizabethtown, KY: March 13, 2001.

TA-W-41,241; Alliant Techsystems, Inc., Alliant Ammunition and Powder Cp/o., Radford, VA: February 14, 2001.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of March and April, 2001.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05556; Alfa Laval, Inc., Formerly Known as Tri-Clover, Kenosha, WI: All workers engaged in the production of pumps and valves are denied eligibility to apply for NAFTA-TAA under Section 250 of the Trade Act of 1974.

NAFTA-TAA-05926; Jordan Lumber and Supply, Inc., Mt. Gilead, NC

NAFTA-TAA-05951; Solid Wood, Inc., Olympia, WA

NAFTA-TAA-05960; Luwa Bahnson, Inc., Textile Engineering and Equipment Div., Charlotte, NC.

NAFTA-TAA-04714; Talon Automotive Group, Production Stamping Division, New Baltimore, MI

NAFTA-TAA-04785; The Challenge Machinery Co., Grand Haven, MI

NAFTA-TAA-05269; Trailmobile Trailer, LLC, Liberal, KS

NAFTA-TAA-05367; Eagle Knits of Stanfield, Inc., Norwood, NC.

NAFTA-TAA-05480; AA Precisioneering, Inc., Meadville, PA

NAFTA-TAA-05519; Motor Coils Manufacturing, A Div. Of Wabtec Corp., St. Louis, MO.

NAFTA-TAA-05579; A.S. Haight and Co., Inc., Cartersville, GA

NAFTA-TAA-05691; International Paper, Industrial Papers Business—Menasha Facility, Menasha, WI

NAFTA-TAA-05728; Quality Metal Products, Inc., Bessemer City, NC

NAFTA-TAA-06026; Portland Pattern, Inc., Portland, OR

The investigation revealed that the criteria for eligibility have not been met for the reasons specified.

The investigation revealed that workers of the subject firm did not produce an article within the meaning of section 250(a) of the Trade Act, as amended.

NAFTA-TAA-06053; Federal Pipe and Steel Corp., Blythville, AR

NAFTA-TAA-05763; Leavitt Communications, Inc., Lincolnshire, IL

NAFTA-TAA-05989; Specialty Ultravision, Inc., Campbell, CA

Affirmative Determinations NAFTA-TAA

NAFTA-TAA-05961; A.O. Smith Corp., A.O. Smith Electrical Products Co., McMinnville, TN: March 11, 2001.

NAFTA-TAA-05903; Bacou Dalloz USA, Inc., Dalloz Safety, Reading, PA: February 20, 2001.

NAFTA-TAA-05320 & A; Motorola, Inc., Global Telecom Solutions Sector (GTSS), Formerly Network Solution Sector (NSS), Schaumburg, IL and Commercial, Government, Industrial Solutions Sector (CGISS), Schaumburg, IL: September 8, 2000.

NAFTA-TAA-05233; Springs Industries, Inc., Portland, OR: August 20, 2000.

NAFTA-TAA-059857 Alliant Techsystems, Inc., Alliant Ammunition and Power Co., Radford Army Ammunition Plant, Radford, VA: March 4, 2001.

NAFTA-TAA-06046; Mid-Western Machinery Co., Inc., Joplin, MO: April 2, 2001.

NAFTA-TAA-06028; L and A Molding Corp., Lewiston, ME: March 27, 2001.

NAFTA-TAA-05267; Jackson Precision Die Casting, Inc., Jackson, MI: August 31, 2000.

NAFTA-TAA-05483; Hi-Shear Automotive Corp., Torrance, CA: October 22, 2000.

NAFTA-TAA-05500; Romart, Inc., Scranton, PA: October 25, 2000.

NAFTA-TAA-05542; Lea-Wayne Knitting Mills, Inc, Morristown, TN: November 19, 2000.

NAFTA-TAA-05688; Greenwood Mills, Inc., Liberty Manufacturing, Liberty, SC: December 18, 2000.

NAFTA-TAA-05887; Vertiflex Products, Div. of VPI Venture Group, LLC, Irwindale, CA: February 4, 2001.

NAFTA-TAA-05930; Siemens VDO Automotive, Winchester, VA: March 5, 2001.

NAFTA-TAA-05940; Vision Metals, Inc., Michigan Specialty Tube, South Lyon, MI: January 24, 2001.

NAFTA-TAA-06005; Kayby Mills of NC, Inc., Trimfit, Inc., Thomasville, NC: October 30, 2000.

NAFTA-TAA-06014; Camfil Farr, Jonesboro, AR: March 28, 2001.

NAFTA-TAA-06019; Lucent Technologies, Bell Labs Innovations OKC Works, Oklahoma City, OK: October 22, 2000.

I hereby certify that the aforementioned determinations were issued during the month of April and May, 2001. Copies of these determinations are available for inspection in Room C-5311, U.S. Department of Labor, 200 Constitution Avenue, NW., Washington, DC 20210 during normal business hours or will be mailed to persons who write to the above address.

Dated: May 9, 2002.
Edward A. Tomchick,
Director, Division of Trade, Adjustment Assistance.

[FR Doc. 02-12384 Filed 5-16-02; 8:45 am]

BILLING CODE 4510-30-M